DEPARTMENT OF EDUCATION

[Docket No.: ED-2013-ICCD-0008]

Agency Information Collection Activities; Submission to the Office of Management and Budget for Review and Approval; Comment Request; High School Longitudinal Study of 2009 (HSLS:09) High School Transcript and 2013 Update Full Scale Study and Panel Maintenance

AGENCY: Department of Education (ED), Institute of Education Sciences.

ACTION: Notice.

SUMMARY: In accordance with the Paperwork Reduction of 1995 (44 U.S.C. chapter 3501 et seq.), ED is proposing a revision of an existing information collection.

DATES: Interested persons are invited to submit comments on or before March 4, 2013.

ADDRESSES: Comments submitted in response to this notice should be submitted electronically through the Federal eRulemaking Portal at http://www.regulations.gov by selecting Docket ID number ED-2013-ICCD-0008 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: High School Longitudinal Study of 2009 (HSLS:09) High School Transcript and 2013 Update Full Scale Study and Panel Maintenance.

OMB Control Number: 1850-0852.

Type of Review: Revision of an existing information collection.

Respondents/Affected Public: State, Local or Tribal Governments; Individuals or households.

Total Estimated Number of Annual Responses: 34,184.

Total Estimated Number of Annual Burden Hours: 9,975.

Abstract: The High School Longitudinal Study of 2009 (HSLS:09) is a nationally representative, longitudinal study of more than 20,000 9th graders in 944 schools who will be followed through their secondary and postsecondary years. The main study students were re-surveyed in 2012 when most were high school 11th graders. The study focuses on understanding students' trajectories from the beginning of high school into postsecondary education or the workforce and beyond. What students decide to pursue when, why, and how are crucial questions for HSLS:09, especially, but not solely, in regards to science, technology, engineering, and math (STEM) courses, majors, and careers. This study includes a new student assessment in algebraic skills, reasoning, and problem solving and, like past studies, will survey students, their parents, school administrators, school counselors, and teachers. Students will be administered a questionnaire and an assessment instrument. This submission will ask for the clearance for the update of HSLS:2009 high school students who were in 9th grade in the base year (June 2013-October 2013), collection of their high school transcripts (September 2013-January 2014), and 2nd follow-up sample panel maintenance (between CU & 2FU FT; Fall 2013).

Dated: January 25, 2013.
Stephanie Valentine,
Acting Director, Information Collection Clearance Division, Privacy, Information and Records Management Services, Office of Management.

[FR Doc. 2013-02230 Filed 1-31-13; 8:45 am]

BILLING CODE 4000-01-P